DEPARTMENT OF COMMERCE

National Oceanic and Atmospheric Administration

50 CFR Part 622

[Docket No. 010601143-1143-01; I.D. 050201B]

RIN 0648-AO62

Fisheries of the Caribbean, Gulf of Mexico, and South Atlantic; Reef Fish Fishery of the Gulf of Mexico; Coastal Migratory Pelagic Resources of the Gulf of Mexico and South Atlantic States; Recreational-for-hire Fisheries in the Gulf; Control Date

AGENCY: National Marine Fisheries Service (NMFS), National Oceanic and Atmospheric Administration (NOAA), Commerce.

ACTION: Advance notice of proposed rulemaking; establishment of a revised control date.

SUMMARY: This document announces that the Gulf of Mexico Fishery Management Council (Council) has adopted an amendment to the Fishery Management Plan for the Reef Fish Resources of the Gulf of Mexico (Reef Fish FMP) and to the Fishery Management Plan for Coastal Migratory Pelagic Resources of the Gulf of Mexico and South Atlantic (Coastal Migratory Pelagics FMP) that would, if approved and implemented by NMFS, establish a moratorium on the issuance of additional charter vessel and headboat (recreational-for-hire) permits for these fisheries in the exclusive economic zone (EEZ) of the Gulf of Mexico. The Council has not yet submitted the final amendment or its proposed implementing regulations to NMFS for approval and implementation. The Council has established March 29, 2001, as a revised control date for determining eligibility for charter vessel/headboat permits under the permit moratorium contained in the amendment. Therefore, consistent with the Council's intent, this notice announces March 29, 2001, as the revised control date for these recreational-for-hire fisheries in the Gulf of Mexico EEZ, thereby superseding the Council’s prior control date of November 18, 1998. This control date is intended to discourage new entry into these recreational-for-hire fisheries prior to review by NMFS of the amendment and its regulatory implementation.

DATES: Comments on the revised control date must be submitted no later than 5 p.m., eastern daylight savings time, July 16, 2001.

ADDRESSES: Comments on the revised control date should be directed to the Gulf of Mexico Fishery Management Council, 3018 U.S. Highway 301 North, Suite 1000, Tampa, FL 33619-2266; telephone: 813-228-2815; fax: 813-225-7015.

FOR FURTHER INFORMATION CONTACT: Phil Steele, Southeast Region, NMFS, telephone: 727-570-5305; fax: 727-570-5583; e-mail: Phil.Steele@noaa.gov.

SUPPLEMENTARY INFORMATION: The recreational-for-hire fisheries for reef fish and coastal migratory pelagic fish in the EEZ of the Gulf of Mexico are managed under the Reef Fish FMP and the Coastal Migratory Pelagic Resources of the Gulf and South Atlantic (Coastal Migratory Pelagics FMP)), respectively. The Reef Fish FMP was prepared by the Council; the Coastal Migratory Pelagics FMP was prepared jointly by the Council and the South Atlantic Fishery Management Council (South Atlantic Council). Both FMPs were approved by NMFS and implemented under the authority of the Magnuson-Stevens Fishery Conservation and Management Act (Magnuson-Steven Act) by regulations at 50 CFR part 622. The FMPs regulate these two recreational-for-hire fisheries and require permits for charter and headboat vessels participating in them. Landings of these vessels are regulated through fish bag, possession, and size limits. There also is an annual recreational quota for red snapper under the Reef Fish FMP.

The recreational sector of both the red snapper and king mackerel fisheries, including recreational-for-hire vessels, has frequently exceeded the annual allocation set for that sector when total allowable catch (TAC) for the whole fishery (recreational and commercial catch) is established annually. To prevent the recreational sector of these fisheries from exceeding its annual allocation, the Council must either reduce the bag limit or take some other action to reduce the fishing effort and/or landings (e.g., seasonal closures and/or increased fish size limits). Reduction of the bag limit is the most effective way to control annual landings, but such reductions could have adverse economic impacts on the recreational-for-hire vessels. Reductions in the bag limit could cause some of the clientele of these vessels to cease fishing and pay for fishing trips. The Council is, therefore, addressing the need for effort limitation for recreational-for-hire vessels for these fisheries in the Gulf of Mexico EEZ through an alternative approach.

On March 29, 2001, the Council adopted an amendment to the Reef Fish FMP and the Coastal Migratory Pelagics FMP that would, if approved and implemented by NMFS, establish a moratorium on the issuance of charter vessel/headboat permits for the reef fish and coastal migratory pelagic fisheries in the Gulf EEZ. Under the permit moratorium contained in the amendment, eligibility for participation in these for-hire fisheries would be based upon the following: (1) Obtaining or applying for a charter vessel or headboat permit prior to March 29, 2001; (2) demonstrating that a charter/headboat vessel was under construction prior to March 29, 2001; or (3) demonstrating compliance with the criteria for “historical captain” that are based, in part, on the March 29, 2001, control date.

Once the Council and the South Atlantic Council submit the amendment to NMFS for Secretarial review under procedures of the Magnuson-Stevens Act, NMFS will publish a notice of availability of the amendment and proposed implementing regulations for public review and comment. After considering the public comment, if NMFS approves the amendment, it would implement the amendment through final regulations. During this process, some fishermen who do not currently participate in the subject recreational-for-hire fisheries, and have never done so, may decide to enter these fisheries for the sole purpose of establishing a record of landings. This kind of speculative entry often is responsible for a rapid increase in fishing effort in fisheries that are already fully developed or overdeveloped. The existing fishery problems in the red snapper and king mackerel fisheries, such as overcapitalization or overfishing, would likely be exacerbated by the entry of new participants.

In an effort to avoid this problem and to discourage capital investment in these fisheries by such new entrants who would not qualify for a permit under the proposed moratorium, the Council has established March 29, 2001, as the control date. After that date, anyone entering these recreational-for-hire fisheries would not be eligible for a charter vessel or headboat permit under the proposed permit moratorium, assuming it is approved and implemented.

The Council previously established a control date of October 16, 1995 (60 FR 53576, October 16, 1995), for the recreational-for-hire fishery for Gulf king mackerel. That control date was subsequently superseded by a November 18, 1998, control date for the recreational-for-hire fisheries for reef fish and coastal migratory pelagic species, including Gulf king mackerel, in the Gulf EEZ (63 FR 64031, November 18, 1998). It is the Council's intent that the November 18, 1998, control date be superseded by the March 29, 2001, control date announced by this notice. The Council selected this revised control date because it established eligibility criteria for participation under its proposed moratorium on issuance of charter vessel/headboat permits for the Gulf EEZ that are related, in one manner or another, to participation in these fisheries prior to March 29, 2001. The Council took this action after deciding that use of the previous November 18, 1998, control date would not accurately cap fishing effort in the for-hire sectors of these fisheries at their actual current level.

A control date does not commit the Council or NMFS to any particular management regime or criteria for future entry into the recreational-for-hire fisheries. Fishermen are not guaranteed future participation in these fisheries regardless of their entry date or intensity of participation in the fisheries before or after the control date. The Council subsequently may choose a different control date or they may choose a management regime that does not make use of such a date. The Council may choose to give variably weighted consideration to fishermen active in the fisheries before and after the control date. Other qualifying criteria, such as documentation of landings and sales, may be applied for entry. The Council also may choose to take no further action to control entry or access to the fisheries.

This advanced notice of proposed rulemaking has been determined to be not significant for purposes of Executive Order 12866.

Authority: 16 U.S.C. 1801 et seq.

Dated: June 11, 2001.
William T. Hogarth,
Acting Assistant Administrator for Fisheries, National Marine Fisheries Service.

[FR Doc. 01-15066 Filed 6-13-01; 8:45 am]

BILLING CODE 3510-22-S